FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on the proposed continuation of a collection of information. In accordance with the Paperwork Reduction Act of 1995 (44 U.S.C. 3506(c)(2)(A)), this notice seeks comments concerning the renewal of the National Flood Insurance Program Biennial Report forms.

SUPPLEMENTARY INFORMATION: FEMA is seeking to extend the use of the National Flood Insurance Program Biennial Report forms, which is required by FEMA regulation 44 CFR 59.22(b)(2). The regulation requires that communities participating in the National Flood Insurance Program submit an annual or biennial report describing the progress made during the year in the implementation and enforcement of floodplain management regulations. FEMA has decided that the data be collected on a biennial rather than annual reporting cycle. The data collected on the Biennial Report forms will also be used to assess the need to revise and update all floodplain areas and flood risk zones identified, delineated, or established under section 1360 of the National Flood Insurance Act of 1968.

Collection of Information

Title: National Flood Insurance Program—Biennial Report.

Type of Information Collection: Revision of a currently approved collection.

OMB Number: 3067-0018.

Form Numbers: FEMA 81-28, Emergency and Regular Program (Minimally Floodprone); FEMA Form 81-29, Regular Program (with Base Flood Elevations); and FEMA Form 81-29A, Regular Program (No Special Flood Hazard Areas Designated).

Abstract: The National Flood Insurance Program Biennial Report forms provide information on changes to each participating community's flood hazard area, which may include new corporate boundaries, changes in flood hazard areas, new floodplain management measures, and changes in the rate of floodplain development. The information is also used to evaluate the effectiveness of a community's floodplain management activities by analyzing the number of variances and floodplain permits granted by each community against other information in the Biennial Report and the FEMA Community Information System. FEMA regional offices use the information to provide technical assistance to communities implementing a floodplain management program. Information from the forms will be input in FEMA's Mapping Needs Update Support System (MNUSS) for use in ranking and prioritizing one community's mapping needs against all other communities in the National Flood Insurance Program to determine how the limited flood hazard mapping funds will be allocated for map updates. Communities will have the option of responding on-line through a FEMA website or completing the paper forms and returning them via the mail system.

Affected Public: State, local, or Tribal Government.

Estimated Total Annual Burden Hours: Annual burden ranges from 8,925 “ 13,641 hours with an average of 11,283 hours per year (one-half of the biennial burden hours.)

FEMA form | Number of responses | Frequency of response (biennial) | Estimated hours per response | Biennial burden hours
81-28, Section II Only | 5,317 | 1 | 35 minutes | 3,099
81-29, Section II Only | 12,124 | 1 | 63 minutes | 12,773
81-28, or 81-29 | 3,059-7308 | 1 | .05-1.5 hours | 1,530-10,962
Section I, Estimated average | 5,184 |  | 1 hour | 5,184
8-29A | 2,246 | 1 | 12 minutes | 449
Total Biennial Hours | 22,746-26,995 | 1 |  | 17,851-27,283
Estimated average | 24,871 |  |  | 22,567

Estimated average Estimated Annual Cost to Respondents: Costs range from $135,503—$269,234 with an average of $202,369 (one-half of the biennial estimated costs). Costs include: respondent's cost at $20.00 per hour to complete section II of FEMA Form 81-28 or 81-29 or FEMA Form 81-29A; responses to Section I of FEMA Form 81-28 or 82-29 at $20.00 per hour; mailing cost at $.34 to return the form; and mailing costs to return supplementary materials or oversized items at $3.00 per response.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to: Muriel B. Anderson, Chief, Records Management Section, Program Services and Systems Branch, Facilities Management and Services Division, Administration and Resource Planning Directorate, Federal Emergency Management Agency, 500 C Street, SW, Room 316, Washington, DC 20472.

FOR FURTHER INFORMATION CONTACT: Contact William Lesser, Federal Insurance and Mitigation Administration, (202) 646-2807, for additional information. Contact Ms. Anderson at (202) 646-2625 (voice), (202) 646-3347(facsimile), or e-mail address: muriel.anderson@fema.gov for copies of the proposed collection of information.

Dated: June 7, 2002.
Muriel B. Anderson,
Acting Chief, Program Services and Systems Branch, Facilities Management and Services Division, Administration and Resource Planning Directorate.

[FR Doc. 02-15052 Filed 6-13-02; 8:45 am]

BILLING CODE 6718-01-P